DEPARTMENT OF THE INTERIOR

National Park Service

[NPS-WASO-NAGPRA-NPS0039944; PPWOCRADN0-PCU00RP14.R50000]

Notice of Intended Repatriation: San Bernardino County Museum, Redlands, CA

AGENCY: National Park Service, Interior.

ACTION: Notice.

SUMMARY: In accordance with the Native American Graves Protection and Repatriation Act (NAGPRA), San Bernardino County Museum intends to repatriate certain cultural items that meet the definition of unassociated funerary objects, sacred objects, and/or objects of cultural patrimony and that have a cultural affiliation with the Indian Tribes or Native Hawaiian organizations in this notice.

DATES: Repatriation of the cultural items in this notice may occur on or after May 19, 2025.

ADDRESSES: Gabrielle Carpentier, San Bernardino County Museum, 2024 Orange Tree Lane, Redlands, CA 92374, telephone (909) 798-8613, email gabrielle.carpentier@sbcm.sbcounty.gov.

SUPPLEMENTARY INFORMATION: This notice is published as part of the National Park Service's administrative responsibilities under NAGPRA. The determinations in this notice are the sole responsibility of San Bernardino County Museum, and additional information on the determinations in this notice, including the results of consultation, can be found in the summary or related records. The National Park Service is not responsible for the determinations in this notice.

Abstract of Information Available

A total of 57 cultural items have been requested for repatriation. These include 55 lots of objects of cultural patrimony and two lots of unassociated funerary objects.

The 31 lots of objects of cultural patrimony are one lot of stone bowls, one lot of a steatite bowl, one lot of spindle whorls, one lot of a pencil, one lot of manos, one lot of pestles, one lot of a metal knife, one lot of wood fragments, one lot of seeds, one lot of siltstone tablets, one lot of glass bottle stoppers, one lot of burned pot sherds, one lot of ground stone, one lot of arrow shaft straighteners, one lot of charcoal, one lot of lithic flakes, one lot of lithic points, one lot of unworked faunal bone, one lot of pot sherds, one lot of porcelain fragments, one lot of shell pendant fragments, one lot of unworked shell, one lot of shell beads, one lot of clay pipe fragments, one lot of glass bottle fragments, one lot of a ceramic figurine of a human body, one lot of buttons, one lot of metal fragments, one lot of metal nails, one lot of shell casings, and one lot of bone awls. These objects from Muscupaibit, Camp Cajon (SBCM-2) were collected as early as 1949.

The one lot of unassociated funerary objects are one lot of burned shell beads. These objects from Muscupaibit, Camp Cajon (SBCM-2) were collected as early as 1949.

The 22 lots of objects of cultural patrimony are one lot of a metate, one lot of a spindle whorls, one lot of a pestle, one lot of ground stone, one lot of lithic flakes, one lot of lithic points, one lot of shell beads, one lot of unworked faunal bone, one lot of pot sherds, one lot of an arrow shaft straightener, one lot of plastic, one lot of seeds, one lot of a wooden stick, one lot of unworked shell, one lot of plant material, one lot of fire-affected rock, one lot of charcoal, one lot of bone awls, one lot of metal, one lot of a manuport (A64-214), one lot of a ceramic fishing weight, and one lot of a green slate pendant. These objects from Las Flores Ranch (SBCM-13) may have been collected as early as 1939. In 1970, the Archaeological Survey Association (ASA) began collecting from Las Flores Ranch.

The one lot of unassociated funerary objects are one lot of burned shell beads. This object from Las Flores Ranch (SBCM-13) may have been collected as early as 1939. In 1970, the Archaeological Survey Association (ASA) began collecting from Las Flores Ranch.

The two lots of objects of cultural patrimony are one lot of ground stone and one lot of lithic flakes. These objects from Hesperia Rd (SBCM-47) were collected in 1939 by Gerald A. Smith.

Determinations

San Bernardino County Museum has determined that:

• The 55 objects of cultural patrimony described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The two unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, San Bernardino County Museum must determine the most appropriate requestor prior to repatriation. Requests for joint repatriation of the cultural items are considered a single request and not competing requests. San Bernardino County Museum is responsible for sending a copy of this notice to the Indian Tribes and Native Hawaiian organizations identified in this notice and to any other consulting parties.

Authority: Native American Graves Protection and Repatriation Act, 25 U.S.C. 3004 and the implementing regulations, 43 CFR 10.9.

Dated: April 8, 2025.
Melanie O'Brien,
Manager, National NAGPRA Program.

[FR Doc. 2025-06634 Filed 4-17-25; 8:45 am]

BILLING CODE 4312-52-P